DEPARTMENT OF THE INTERIOR

Bureau of Land Management

[NM-030-04-1610-DT]

Notice of Availability of the Proposed Resource Management Plan Amendment and Final Environmental Impact Statement for Federal Fluid Minerals Leasing and Development in Sierra and Otero Counties, NM

AGENCY: Bureau of Land Management (BLM), Interior.

ACTION: Notice of availability.

SUMMARY: In accordance with the Federal Land Policy and Management Act (FLPMA) and the National Environmental Policy Act (NEPA), the Bureau of Land Management (BLM) announces the availability of the Proposed Resource Management Plan Amendment/Final Environmental Impact Statement (RMPA/FEIS) for Federal Fluid Minerals Leasing and Development in Sierra and Otero Counties, New Mexico. The planning area encompasses approximately 1.8 million surface acres and 5 million subsurface acres of public lands managed by the Las Cruces Field Office, located in Sierra and Otero Counties in southern New Mexico. The BLM has and will continue to work closely with all interested parties to identify management decisions that are best suited to the needs of the public. Final decisions will supersede the oil and gas decisions identified in the White Sands Resource Area RMP (1986) and provide direction for management of these fluid minerals resources on the public lands for approximately 20 years.

The BLM does have the authority to protect unique and sensitive areas through land management restrictions, for example, one such tool could be an Area of Critical Environmental Concern (ACEC) designation. While this Fluid Minerals Resource Management Plan Amendment addressed only oil and gas leasing, the BLM is required to consider updating and revising RMPs if there is new data of significance to the RMP that needs to be addressed pursuant to the National Environmental Policy Act. Such data to consider has surfaced in Dona Ana, Otero, and Sierra Counties that may require BLM to consider a revision to the existing RMPs in those three counties starting in 2004 which includes looking at all public land issues including nominations for ACECs.

DATES: The Proposed RMPA/FEIS for Federal Fluid Minerals Leasing and Development in Sierra and Otero Counties, New Mexico will be available for a 30-day protest period in accordance with the BLM's land-use planning regulations (43 CFR 1610.5-2). Protests must be filed within 30 days of the date the Environmental Protection Agency publishes its notice of availability of the FEIS.

ADDRESSES: Written protests must be submitted to Director, Bureau of Land Management, Attention: Ms. Brenda Williams, Protests Coordinator, WO-210, P.O. Box 66538, Washington, DC 20035.

Alternatively, and to expedite delivery, you may send your protest using an express delivery service to Director, Bureau of Land Management, Attention: Ms. Brenda Williams, Protests Coordinator, WO-210, 1620 L Street NW., Suite 1075, Washington, DC 20036.

E-mail and faxed protests will not be accepted as valid protests unless the protesting party also provides the original letter by either regular or overnight mail postmarked by the close of the protest period. Under these conditions, the BLM will consider the e-mail or faxed protest as an advance copy, and it will receive full consideration. If you wish to provide the BLM with such advance notification, please direct faxed protests to the attention of the BLM Protests Coordinator at (202) 452-5112, and e-mails to Brenda_Hudgens-Williams@blm.gov.

FOR FURTHER INFORMATION CONTACT: Tom Phillips, BLM Las Cruces Field Office, 1800 Marquess, Las Cruces, New Mexico 88005 or by telephone (505) 525-4377; Fax (505) 525-4412.

SUPPLEMENTARY INFORMATION: This land-use plan amendment focuses on the principle of multiple-use management and sustained yield as prescribed by Section 202 of FLPMA. The Proposed RMPA/FEIS considers and analyzes three alternatives. These alternatives have been developed based on extensive public input following scoping (July 1999), review of the summary of the Analysis of the Management Situation (July 2000), review and comment on the Draft RMPA/EIS (October 2001-June 2002), and numerous meetings with local governments, interested groups, local citizens, and the New Mexico Resource Advisory Council. Alternative A (as modified by public comment on the Draft RMP/EIS) is the proposed plan and provides for the exploration and development of certain public lands while providing for protection of the other resources, as well as continuing to allow for other uses of the public lands. The BLM Planning Regulations, 43 CFR 1610.5-2, state that any person who participated in the planning process and has an interest, which may be adversely affected, may protest. A protest may raise only those issues, which were submitted for the record during the planning process. Any protests must be filed within 30 days of the date the Environmental Protection Agency publishes its notice of availability of the FEIS. Specific dates of the protest period will be announced through the local news media, letters or postcards, and the BLM Web site (see the Internet address below). To be considered timely, your protest must be postmarked no later than the last day of the protest period. Though not a requirement, we suggest that you send your protest by certified mail, return receipt requested. You are also encouraged, but not required, to forward a copy of your protest to the Las Cruces Field Manager at 1800 Marquess, Las Cruces, New Mexico 88005. To be considered complete, your protest must contain (at a minimum) the following information:

(1) Name, mailing address, telephone number and the affected interest of the person filing the protest(s).

(2) A statement of the issue or issues being protested.

(3) A statement of the part or parts of the proposed plan being protested. To the extent possible, reference specific pages, paragraphs, and sections of the document.

(4) A copy of all your documents addressing the issue or issues, which were discussed with the BLM for the record.

(5) A concise statement explaining why the proposed decision is believed to be incorrect. This is a critical part of your protest. Document all relevant facts, as much as possible. Disagreement, by itself, with a proposed decision or with how the data are used, or unsupported allegations of violations of regulation, law, legal precedents, or other guidance, will not meet the requirement of the regulations.

Documents pertinent to this proposal may be examined at the Las Cruces Field Office in Las Cruces, New Mexico during regular business hours (7:45 a.m. to 4:30 p.m., Monday through Friday, except holidays). Interested persons may also review the Proposed RMPA/FEIS on the Internet at http://www.nm.blm.gov. A hard copy or a CD-ROM of the document may be requested from the BLM Las Cruces Field Office at the address and phone number above. After resolution of any protests an Approved RMPA/Record of Decision will be prepared and is expected to be available in early-to-mid 2004.

John W. Whitney,
Acting State Director.

[FR Doc. 04-98 Filed 1-8-04; 8:45 am]

BILLING CODE 4310-VC-P